DEPARTMENT OF ENERGY

Draft Report Implementing Office of Management and Budget Information Dissemination Quality Guidelines

AGENCY: Office of the Chief Information Officer, Department of Energy (DOE).

ACTION: Notice and request for comment.

SUMMARY: DOE invites public comment on a draft report to the Office of Management and Budget (OMB) that contains draft DOE guidelines setting forth policy and procedures to ensure and maximize the quality, utility, objectivity, and integrity of the information that DOE disseminates to members of the public. DOE has prepared this draft report pursuant to OMB government-wide guidelines under section 515 of the Treasury and General Government Appropriations Act for Fiscal Year 2001 (Act) (Pub. L. 106-554, 114 Stat. 2763).

DATES: Public comments are due August 21, 2002.

ADDRESSES: Comments should be sent by regular mail or electronic mail. To ensure receipt of comments by the due date, DOE recommends submission by electronic mail to the Office of the Chief Information Officer, Attention: DOE Quality Guidelines Review at cio.webmaster@hq.doe.gov. Comments sent by regular mail should be addressed to: Office of the Chief Information Officer, Attention: DOE Quality Guidelines Review, U.S. Department of Energy, Forrestal Building—Room 8H-089, 1000 Independence Avenue NW., Washington, DC 20585, or via Fax to (202) 586-7966.

FOR FURTHER INFORMATION CONTACT: Office of the Chief Information Officer, Attention: Ms. Deborah Henderson, at the electronic and regular mail addresses provided above. The draft DOE report and guidelines in this notice are available on the DOE CIO Web site at http://cio.doe.gov/informationquality.

SUPPLEMENTARY INFORMATION: The draft report and guidelines in this notice are in response to OMB's Guidelines for Ensuring and Maximizing the Quality, Objectivity, Utility, and Integrity of Information Disseminated by Federal Agencies (OMB guidelines), 67 FR 8452 (February 22, 2002) under section 515 of the Act. DOE's draft guidelines would apply to a wide variety of information disseminated to members of the public. The DOE draft guidelines are modeled on the OMB guidelines with modifications specific to DOE. The principal modifications with explanations, are as follows:

1. DOE inserted the definitions before the operative portions of its draft guidelines, and in order to enhance readability, opted to relocate some of the language in the OMB definitions (namely, that which provided policy as distinguished from strictly definitional material) among the operative sections of guidelines.

2. DOE included general pre-dissemination review procedures which would provide for the originating DOE office to review information in light of the quality standards in the OMB and DOE guidelines and, in appropriate cases, for higher level internal review of the originating office's conclusions to ensure that the procedures are followed.

3. DOE opted to propose its own definition of “influential” when that term is applied to financial, scientific, or statistical information. Under the OMB guidelines, “influential” information of that type is supposed to meet the highest standards of transparency (consistent with countervailing considerations such as confidentiality) and data must be capable of reproduction by a qualified individual outside of the agency. DOE proposes to define “influential information” as information that DOE routinely embargoes because of its potential effect on markets, information on which a regulatory action with a $100 million per year impact is based, and other information products on a case-by-case basis. Routine embargo information occurs with regard to certain of the information products of DOE's Energy Information Administration. Currently, only some of the appliance energy conservation standards rulemakings under the Energy Policy and Conservation Act (42 U.S.C. 6295) have $100 million impacts on the economy. While DOE is committed to maintaining high standards of quality for all its information products aimed at the public, DOE is not of the view that the impact of other information products warrants holding them to the most rigorous standards of transparency and reproducibility.

4. DOE proposes mandatory procedures, including content requirements, to be followed by members of the public in submitting requests for correction of information under the Guidelines. With respect to information related to DOE actions subject to public comment, members of the public generally would be required to submit requests for correction in the form of timely comments made through the comment process. With respect to DOE actions that are not subject to public comment, members of the public would be required to submit requests for correction to the DOE CIO who would direct the request to the originating DOE program office. That office should provide at least an initial response within 60 days. A member of the public could request review of an adverse response to the DOE CIO. The CIO would direct the request for review to a higher level official of the DOE program office to whom the originating program office reports for a final decision within 60 days.

In addition to the four foregoing points, DOE is considering whether, consistent with the OMB guidelines (67 FR 8460), to add a variation to the portion of the DOE guidelines calling for use of the criteria in the Safe Drinking Water Act Amendments of 1996 (42 U.S.C 300g-1(b)(3)(A) and (B)) in the preparation of risk assessments. The possible adaptation would be to add a variation of the Safe Drinking Water Act criteria for ecological risk assessments which may not involve health and medical information. More specifically, DOE is considering adding the following provision on ecological risk assessment procedures to its guidelines:

“1. To the degree that a DOE Element's action is based on science, the DOE Element should use:

a. The best available peer-reviewed science and supporting studies conducted in accordance with sound and objective scientific practices to evaluate adverse effects to local populations or communities of affected biota; and

b. Data collected by accepted methods (if the reliability of the method and the nature of the decision justifies use of the data), including, where feasible, site-specific data.

2. In the dissemination of public information about risks, the DOE Element should ensure that the presentation of information about risk effects is comprehensive, informative, and understandable.

3. In a document made available to the public, the DOE Element should specify, to the extent practicable:

a. Each population addressed by any estimate of applicable risks;

b. The expected risk or central estimate of risk for the specific populations affected;

c. Each appropriate upper-bound or lower-bound estimate of risk developed through probabilistic risk assessment techniques where feasible;

d. Each significant uncertainty identified in the process of the assessment of risk effects and the studies that would assist in resolving the uncertainty; and

e. Peer-reviewed studies known to the DOE Element that support, are directly relevant to, or fail to support any estimate of risk effects and the methodology used to reconcile inconsistencies in the scientific data, including, where feasible, a weight of the evidence analysis and causation criteria analysis.”

DOE particularly invites comments on its draft guideline provisions reflecting the four points discussed above; DOE also invites comments on the advisability of adopting the ecological risk assessment language set forth above.

DOE plans to review all relevant comments submitted in response to its draft guidelines and will respond to the major issues they raise. Publication of a final report to OMB is due on October 1, 2002.

Issued in Washington, DC on July 16, 2002.
Karen S. Evans,
Chief Information Officer.

Draft Report to the Office of Management and Budget on Guidelines for Ensuring and Maximizing the Quality, Objectivity, Utility, and Integrity of Information Disseminated by the Department of Energy

Introduction

This report is submitted to the Office of Management and Budget, (OMB) by the Department of Energy (DOE) pursuant to OMB's Guidelines for Ensuring and Maximizing the Quality, Objectivity, Utility, and Integrity of Information Disseminated by Federal Agencies (OMB guidelines), 67 FR 8452 (February 22, 2002) under section 515 of the Treasury and General Government Appropriations Act for Fiscal Year 2001 (Pub. L. 106-554, 114 Stat. 2763). The report includes DOE's guidelines to implement the policies and procedural guidance set forth in the OMB guidelines.

Background

DOE is responsible for the administration of a wide variety of national defense, energy supply, energy conservation, and nuclear waste cleanup programs authorized by law. DOE administers a system of national laboratories with active scientific research programs. DOE also disseminates a large volume of statistical reports through its Energy Information Administration. Although DOE is not a major regulatory agency, DOE has some rulemaking mandates and authorities, such as the appliance energy conservation program of test procedures and standards, that require the dissemination of financial, scientific, and statistical information. Like other agencies, DOE publishes draft and final environmental impact statements and environmental assessments under the National Environmental Policy Act, 42 U.S.C. 4321, et seq. to 4370d.

Discussion of Guidelines

DOE has always maintained high standards of quality in the production of information disseminated to members of the public. As a source of scientific and statistical information on which members of the public and other government officials rely, DOE has long had procedures to assure adequate information quality. DOE's Energy Information Administration is a leader in this regard and has elaborate procedures to ensure the quality of its information products. DOE's Office of Energy Efficiency and Renewable Energy has elaborate special procedures for some of its rulemakings. That office has codified a general statement of policy in Appendix A to Subpart C of 10 CFR part 430 with regard to its information quality review procedures for information used in its appliance energy conservation standards rulemakings.

The DOE guidelines set forth below are modeled on OMB guidelines and incorporate a basic standard of quality (including objectivity, utility, and integrity) in the development and dissemination of DOE or DOE-sponsored information to the public. They also incorporate the procedures that DOE has traditionally followed to review information products for adequate quality. In addition, the DOE guidelines provide a uniform set for procedures for members of the public who wish to request correction of information on a timely basis. These procedures will ensure that final DOE decisions with respect to requests for correction will be made by high-level management officials.

In DOE's view, section 515 of the Act requires procedures and performance goals for the internal management of the Executive Branch. Although the draft DOE guidelines provide procedures by which a member of the public may request correction of information DOE has disseminated, they are not intended to result in DOE actions that are subject to judicial review. Rather, section 515(b)(2)(C) contemplates that each agency shall “report periodically to the Director” of OMB concerning “(i) the number and nature of complaints received by the agency regarding the accuracy of information disseminated by the agency; and (ii) how such complaints were handled by the agency.”

The DOE Guidelines were prepared by the DOE Chief Information Officer, who is responsible for coordinating DOE's response to OMB's guidelines, in cooperation with other affected DOE offices.

Guidelines for Ensuring and Maximizing the Quality, Objectivity, Utility, and Integrity of Information Disseminated to the Public by the Department of Energy

I. Background

Section 515, Treasury and General Government Appropriations Act for Fiscal Year 2001 (Pub. L. 106-554), directed the Office of Management and Budget (OMB) to issue government-wide guidelines that “provide policy and procedural guidance to Federal Agencies for ensuring and maximizing the quality, objectivity, utility, and integrity of information (including statistical information) disseminated by Federal Agencies.” The OMB guidelines, published in the Federal Register on February 22, 2002 (67 FR 8452), require agencies to issue by October 1, 2002, their own implementing guidelines that include administrative mechanisms allowing members of the public to seek and obtain correction of information disseminated by the agency that does not comply with the agency guidelines.

The Department of Energy (DOE) Information Quality Guidelines, issued by the Department's Chief Information Officer (CIO) pursuant to OMB's Guidelines, are intended to provide guidance to Departmental Elements ( i.e., major DOE offices) on maximizing the quality, objectivity, utility, and integrity of information, including statistical information, disseminated to the public.

The DOE Guidelines also establish mechanisms for members of the public to seek and obtain administrative correction of disseminated information that does not comply with the quality requirements of these Guidelines. Finally, the Guidelines explain how the CIO will comply with OMB's annual reporting requirement concerning complaints from members of the public.The DOE Information Quality Guidelines will become effective on October 1, 2002.

II. Introduction

The CIO has designed these Guidelines to apply to a wide variety of DOE information dissemination activities that may range in importance and scope. They are intended to be sufficiently generic to fit all media, printed, electronic, or other forms. The CIO has sought to avoid the problems that would be inherent in developing detailed, prescriptive, “one-size-fits-all” DOE-wide guidelines that would artificially require different types of dissemination activities to be treated in the same manner.

The Guidelines are designed so that DOE Elements can apply them in a common sense and workable manner. It is important that these guidelines not impose unnecessary administrative burdens that would inhibit DOE Elements from continuing to take advantage of the Internet and other technologies to disseminate information to the public. In this regard, DOE Elements may incorporate the standards and procedures required by these guidelines into their existing information resources management and administrative practices rather than create new and potentially duplicative or contradictory processes. DOE Elements may rely on their implementation of the computer security provisions of the Paperwork Reduction Act (PRA) of 1995, 44 U.S.C. 3501 et seq., to establish appropriate security safeguards for ensuring the integrity of the information that they disseminate.

III. DOE Information Quality Guidelines

A. What Definitions Apply to These Guidelines?

1. DOE Element means a major DOE office headed by an official whose position is subject to Senate confirmation or an office which directly reports to the Secretary, Deputy Secretary, or either of the DOE Under Secretaries.

2. Dissemination means DOE Element initiated or sponsored distribution of information to the public.

3. Influential means, when used in the context of scientific, financial, or statistical information, information (1) that is subject to embargo until the date of its dissemination by the Department or DOE Element disseminating the information because of potential market effects; (2) that is the basis for a DOE action that may result in an annual effect on the economy of $100 million or more; or (3) that is designated by a DOE Element as “influential.”

4. Information means any communication or representation of knowledge such as facts or data, in any medium or form, including textual, numerical, graphic, cartographic, narrative, or audiovisual forms, including information that a DOE Element disseminates from a web page, but excluding the provision of hyperlinks to information that others disseminate.

5. Information dissemination product means any book, paper, map, machine-readable material, audiovisual production, or other documentary material, regardless of physical form or characteristic, a DOE Element disseminates to the public, including any electronic document, CD-ROM, or Web page.

6. Integrity means the information has been secured and protected from unauthorized access or revision, to ensure that the information is not compromised through corruption or falsification.

7. Objectivity means the information is presented in an accurate, clear, complete, and unbiased manner and the substance of the information is accurate, reliable, and unbiased.

8. Quality means utility, objectivity, and integrity.

9. Reproducibility means capability of being substantially reproduced, subject to an acceptable degree of imprecision, and with respect to analytical results, “capable of being substantially reproduced” means that independent analysis of the original or supporting data using identical methods would generate similar analytic results, subject to an acceptable degree of imprecision or error.

10. Subject to public comment means that DOE has made the information available for comment by members of the public, preliminary to making a final determination, through a notice in the Federal Register including, but not limited to, a notice of inquiry, an advance notice of proposed rulemaking, a notice of proposed rulemaking, a notice reopening or extending a comment period due to receipt of new information, a notice of availability of a draft environmental impact statement, or any other Federal Register notice that provides an opportunity for comment by members of the public regarding information on which a final adjudicatory determination may be based.

11. Transparent means clear and concise

12. Utility means the usefulness of the information to its intended users, including the public.

B. Which Public Disseminations of Information Are and Are Not Subject to These Guidelines?

These Guidelines apply to any public dissemination of information. The definitions of “information” and “dissemination” establish the scope of the applicability of the guidelines. “Information” means “any communication or representation of knowledge such as facts or data.” Consequently, “information” does not include opinions.

“Dissemination” is defined to mean agency initiated or sponsored distribution of information to the public,” including, for example, a risk assessment prepared by a DOE Element to inform the agency's formulation of possible regulatory or other action. A DOE Element does not “initiate” the dissemination of information when a Federally employed scientist or Federal grantee or contractor publishes his or her research findings, even if the DOE retains ownership or other intellectual property rights because DOE paid for the research. In such cases, to avoid confusion, the DOE Element should ensure that the researcher includes an appropriate disclaimer that the views are the researcher's and do not necessarily reflect the views of DOE. However, if a DOE Element directs a Federally employed scientist or Federal grantee or contractor to disseminate information and retains authority to review and approve the information before release, then the DOE Element has sponsored the dissemination of the information.

“Dissemination” also does not include the following distributions:

(1) Press releases, including but not limited to fact sheets, press conferences or similar communications in any medium that announce, support the announcement or give public notice of information a DOE Element has disseminated elsewhere;

(2) Any inadvertent or unauthorized disclosure of information intended only for inter-agency and intra-agency communications;

(3) Correspondence with individuals or persons;

(4) Testimony and other submissions to Congress containing information a DOE Element has disseminated elsewhere;

(5) Responses to requests for DOE records under the Freedom of Information Act, the Privacy Act, the Federal Advisory Committee Act or similar laws;

(6) Information in public filings (such as public comments received by DOE in rulemaking proceedings), except where the DOE Element distributes information submitted to it by a third party in a manner that suggests that the DOE Element endorses or adopts the information, or indicates in its distribution that it is using or proposing to use the information to formulate or support a regulation, guidance, or other DOE Element decision or position.

(7) Information contained in subpoenas or documents filed in adjudicative proceedings, including DOE adjudicatory orders, opinions, amicus and other briefs;

(8) Procedural, operational, policy and internal manuals and memoranda prepared for the management and operation of DOE Elements that are not primarily intended for public dissemination;

(9) Archival records (including information made available to the public on a DOE web site to document historical DOE actions); and

(10) Communications limited to government employees or DOE contractors or grantees.

C. What Are the Responsibilities of DOE Elements for Ensuring Quality of Information Disseminated to the Public and Responding to Requests From Members of the Public for Correction of Information?

1. Ensuring quality. As a guiding principle, DOE Elements should have as a performance goal that information disseminated to the public meets a basic level of quality. The quality of information disseminated by DOE Elements is measured by its utility, objectivity, and integrity. “Objectivity” focuses on whether the disseminated information is being presented in an accurate, clear, complete and unbiased manner and as a matter of substance, is accurate, reliable and unbiased. This includes whether the information is presented in the proper context. Sometimes, in disseminating certain types of information to the public, other information must also be disseminated in order to ensure an accurate, clear, complete, and unbiased presentation.

Also, DOE Elements should (to the extent possible, consistent with security, privacy, intellectual property, trade secrets, and confidentiality protections) identify the sources of the disseminated information and, in a scientific, financial, or statistical context, the supporting data and models, so that the public can assess for itself whether there may be some reason to question the objectivity of the sources. Where feasible, data should have full, accurate, transparent documentation, and possible sources of error affecting data quality should be identified and disclosed to users.

In addition, “objectivity” involves a focus on ensuring accurate, reliable, and unbiased information. In a scientific, financial, or statistical context, the original and supporting data should be generated, and the analytical results developed, using sound statistical and research methods. If the data and analytical results have been subjected to formal, independent, external peer review, the information may generally be presumed to be of acceptable objectivity. However, this presumption is rebuttable based on a persuasive showing by a member of the public seeking correction of information in a particular instance. If DOE Element-sponsored peer review is employed to help satisfy the objectivity standard, the review process employed should meet the general criteria for competent and credible peer review recommended by OMB's Office of Information and Regulatory Affairs to the President's Management Council (http://www.whitehouse.gov/omb/inforeg/oira_review-process.html), namely “that (a) peer reviewers be selected primarily on the basis of necessary technical expertise, (b) peer reviewers be expected to disclose to agencies prior technical/policy positions they may have taken on the issues at hand, (c) peer reviewers be expected to disclose to agencies their sources of personal and institutional funding (private or public sector), and (d) peer reviews be conducted in an open and rigorous manner.”

Influential information. If a DOE Element is responsible for disseminating and disseminates influential scientific, financial information, a high degree of transparency of data and methods should be ensured to facilitate the reproducibility of such information by qualified third parties.

“Influential” when used in the context of scientific, financial or statistical information, means information: (1) That is subject to embargo until its dissemination by DOE or a DOE Element disseminating the information because of potential market effects; (2) that is the basis for a DOE action that may result in an annual effect on the economy of $100 million or more; or (3) that is designated by a DOE Element as “influential.”

With regard to original and supporting data related thereto, these Guidelines do not require that all disseminated original and supporting data be subjected to the reproducibility requirement applicable to influential information. DOE Elements may identify, in consultation with the relevant scientific and technical communities, those particular types of data that may practicably be subjected to the reproducibility requirement, given ethical, feasibility, confidentiality, privacy, trade secret, security, and intellectual property constraints. It is understood that reproducibility of data is an indication of transparency about research design and methods and thus a replication exercise (i.e. a new experiment, test, or sample) should not be required prior to each dissemination. At a minimum, DOE Elements should assure reproducibility for those kinds of original and supporting data according to “commonly accepted scientific, financial, or statistical standards.”

With regard to analytic results related thereto, DOE Elements generally should demonstrate sufficient transparency about data and methods that an independent reanalysis could be undertaken by a qualified member of the public. These transparency standards apply to analysis of data from a single study as well as to analyses that combine information from multiple studies.

Making the data and models publicly available will assist in determining whether analytical results are capable of being substantially reproduced. However, the objectivity standard does not override other compelling interests such as privacy, trade secret, security, intellectual property, and other confidentiality protections.

In situations where public access to data and methods will not occur due to other compelling interests, DOE Elements should apply rigorous robustness checks to analytic results and document what checks were undertaken. DOE Elements should, however, disclose the specific data sources that have been used and the specific quantitative methods and assumptions that have been employed. However, each DOE Element should define the type of robustness checks and the level of detail for documentation thereof, in ways appropriate for it given the nature and multiplicity of issues for which the DOE Element is responsible.

With regard to the dissemination of information containing analyses of risks to human health, safety and the environment, DOE Elements should either adopt or adapt the quality principles applied by Congress to risk information used and disseminated pursuant to the Safe Drinking Water Act Amendments of 1996. DOE Elements responsible for dissemination of vital health, environmental and medical information should interpret the reproducibility and peer-review standards in a manner appropriate to assuring the timely flow of vital information to medical providers, patients, health agencies, and the public. Information quality standards may be waived temporarily by DOE Elements in urgent situations (e.g. imminent threats to public health or homeland security).

“Utility” refers to the usefulness of the information to intended users including the public. In assessing the usefulness of information, DOE Elements need to consider the uses of the information they plan to disseminate not only from their perspective but also from the perspective of the public. As a result, when transparency of information is relevant for assessing the information's usefulness from the public's perspective, DOE Elements should take care to ensure that transparency has been addressed in its review of the information.

“Integrity” refers to security—the protection of information from unauthorized access or revision to ensure that information by DOE or DOE Elements is not compromised through corruption or falsification.

Pre-dissemination review procedures. Before disseminating information to members of the public, the originating office of the DOE Element must ensure that the information is consistent with the OMB and DOE guidelines and must determine that the information is of adequate quality for dissemination. If the information is influential financial, scientific, or statistical information, then the DOE Element should provide for higher level review of the program office's conclusions. Each DOE Element should identify for the CIO a high ranking official at the rank of at least a deputy assistant secretary who is responsible for ensuring the accountability of the DOE Element's program offices in reviewing information to be disseminated to members of the public under the OMB and DOE guidelines.

As a matter of good and effective information resources management, DOE Elements may develop and post on their websites supplemental guidelines for the process they will follow for reviewing the quality (including objectivity, utility and integrity) of information before it is disseminated. DOE Elements should treat information quality as integral to every step of development of information, including creation, collection, maintenance, and dissemination. This process will enable every DOE Element to substantiate the quality of the information it has disseminated through documentation or other means appropriate to the information.

Paperwork Reduction Act. It is important that DOE Elements make use of OMB's Paperwork Reduction Act (PRA) clearance process to help improve the quality of information that the DOE Elements collect and disseminate to the public. DOE Elements already are required to demonstrate in their PRA submissions to OMB the “practical utility” of a proposed collection of information the DOE Element plans to disseminate. Additionally, for all proposed collections of information that will be disseminated to the public, DOE Elements should demonstrate in their PRA clearance submissions to OMB that the proposed collection of information will result in information that will be collected, maintained, and used in a way consistent with the OMB and DOE information quality guidelines.

2. Responding to requests from members of the public. To facilitate public review of information disseminated to the public, these Guidelines provide procedures allowing members of the public to seek and obtain correction of information disseminated to the public that does not comply with the quality provisions of these Guidelines. The procedures, set out in Part IV below, provide separate mechanisms for information set forth or referenced in a DOE or DOE-sponsored document subject to public comment and all other DOE or DOE-sponsored information.

IV. Requests From Members of the Public for Correction of Publicly Disseminated Data

A. How Does a Member of the Public Request Correction of Publicly Disseminated Information?

1. Requests from members of the public seeking correction of DOE or DOE-sponsored documents subject to public comment. (A) With respect to information set forth or referenced in a DOE or DOE-sponsored document subject to public comment, a member of the public must request correction within the comment period in a comment that:

(1) Specifically identifies the information in question and the document(s) containing the information;

(2) Explains with specificity the reasons why the information is inconsistent with the applicable quality standards in the OMB or DOE guidelines; and

(3) Presents substitute information, if any, with an explanation showing that such information is consistent with the applicable quality standards in the OMB and DOE guidelines.

(B) With respect to information set forth or referenced in a DOE notice of final rulemaking or a final Environmental Impact Statement (and any related Record of Decision), a member of the public may only file a request for correction of information in the form of a petition for rulemaking under 5 U.S.C. 553(e) or a petition for a supplemental environmental impact statement under 10 CFR part 1021, whichever is appropriate.

(C) A member of the public must file a request for correction under this paragraph at the address for comments set forth in DOE's notice providing for public comment.

(D) If the request for correction concerns information in or referenced in a document subject to comment at an early stage of the public comment process (e.g., an advance notice of proposed rulemaking), any response prior to publication of the final document is a preliminary response.

(E) A member of the public who files a request for correction under this paragraph has the burden of proof with respect to the necessity for correction as well as with respect to the type of correction requested.

2. Requests from members of the public seeking correction of DOE or DOE-sponsored documents not subject to public comment. (A) With respect to information set forth or referenced in a DOE or DOE-sponsored document that is disseminated or redisseminated on or after October 1, 2002, and is not subject to public comment, a member of the public must request correction by letter to the Office of the Chief Information Officer, Attention: DOE Quality Guidelines, U.S. Department of Energy, Forrestal Building—Room 8H-089, 1000 Independence Avenue NW., Washington, DC 20585, or via Fax to (202) 586-7996, or by filling out the form provided at the CIO Web site: http://cio.doe.gov/informationquality. This form will request the information set forth in paragraph (B) below.

(B) If a member of the public requests correction of DOE or DOE-sponsored information by letter, addressed to the CIO, then the letter must:

(1) Specifically identify the information in question and the document(s) containing the information;

(2) Explain with specificity the reasons why the information is inconsistent with the applicable quality standards in the OMB Guidelines or DOE guidelines; and

(3) Present substitute information, if any, with an explanation showing that such information is consistent with the OMB guidelines and the DOE implementing guidelines.

(C) If a member of the public complains about information set forth or referenced in a DOE or DOE-sponsored document and does not request correction under the OMB or DOE guidelines, then the complaint is not subject to processing as a request for correction under those guidelines.

(D) A member of the public who files a request for correction under this paragraph has the burden of proof with respect to the necessity for correction as well as with respect to the type of correction requested.

B. How Does DOE Process Requests for Correction?

(A) Incomplete requests. If a request for correction is incomplete, DOE may seek clarification from the person submitting the request or return it without prejudice to resubmission.

(B) Public notice of a request for correction. In selected cases, DOE may publish notice of the receipt of a request for correction and may invite public comment.

(C) Participation by other interested persons. By letter, DOE may invite or allow other interested persons to comment on a request for correction.

(D) Initial decisions. If the request for correction concerns information that does not involve a document subject to public comment, then the originating office of the DOE Element responsible for dissemination of the information should provide at least an initial response within 60 days (with a copy to the CIO). The response should contain a statement of reasons for the disposition.

(E) Administrative appeals. In the event DOE initially denies a request for correction of information not subject to public comment and the person who submitted the request would like additional review, then that person must submit a request for review, including a statement of reasons for modifying or reversing the initial decision, no later than 30 days from the date of that decision. A request for review under this paragraph must be submitted by e-mail to cio.webmaster@hq.doe.gov, or by regular mail to Office of the Chief Information Officer, Attention: DOE Quality Guidelines, U.S. Department of Energy, Forrestal Building—Room 8H-089, 1000 Independence Avenue NW., Washington, DC 20585, or via Fax to (202) 586-7996. The CIO will direct the request for review to the DOE Element which supervises the originating DOE program office, and the DOE Element, with the concurrence of the Office of General Counsel, should issue a final decision for DOE (with a copy to the CIO) within 60 days from the date that the request for review is received.

(F) Any corrective action will be determined by the nature and timeliness of the information, the magnitude of the error, and the cost of undertaking a correction. DOE Elements are not required to change, or in any way alter, the content or status of information simply based on the receipt of a request for correction. DOE Elements need not respond substantively to frivolous or repetitive requests for correction. Nor do DOE Elements have to respond substantively to requests that concern information not covered by the OMB or DOE Guidelines or from a person whom the information does not affect.

(G) If DOE determines that a request for correction of information not subject to public comment has merit, DOE may respond by correcting the information in question and without issuing a decision explaining the reasons for accepting the request.

(H) If DOE receives multiple requests for correction of information not subject to public comment, DOE may consolidate the requests and respond on a DOE web site, or by notice in the Federal Register, or by issuing a correction in similar form and manner as the original information was issued.

V. DOE Reporting Requirements

On an annual fiscal-year basis, the CIO will report to the Director of OMB concerning requests for correction received under these Guidelines. DOE Elements must designate a reporting official, except as agreed otherwise between the DOE Element and the CIO, for example, where the CIO might compile the data for the DOE Element. Where a DOE Element reporting official has been designated, that official must report to the CIO no later than November 1 every year concerning requests received during the previous fiscal year and their resolutions, including requests with regard to information subject to public comment. The first reports are due November 1, 2003. The CIO will compile the DOE consolidated report and submit it annually to OMB beginning January 1, 2004. DOE Element reports should contain the number of complaints received, nature of complaints (e.g., request for deletion or correction) and how they were resolved (e.g., number corrected, denied, or pending review). The report must also include a compilation of the number of staff-hours devoted to handling and resolving such complaints and preparing reports.

[FR Doc. 02-18378 Filed 7-19-02; 8:45 am]

BILLING CODE 6450-01-P